NATIONAL SCIENCE FOUNDATION

Committee on Equal Opportunities in Science and Engineering; Notice of Meeting

In accordance with the Federal Advisory Committee Act (Pub. L. 92-463, as amended), the National Science Foundation (NSF) announces the following meeting:

Name and Committee Code: Committee on Equal Opportunities in Science and Engineering (CEOSE) (#1173).

Date and Time: October 27, 2022; 1:00 p.m.-5:30 p.m.; October 28, 2022; 10:00 a.m.-3:30 p.m.

Place: National Science Foundation, 2415 Eisenhower Avenue, Alexandria, VA 22314/Virtual.

Meeting Registration: Virtual attendance information will be forthcoming on the CEOSE website at http://www.nsf.gov/od/oia/activities/ceose/index.jsp.

Type of Meeting: Open.

Contact Person: Dr. Bernice Anderson, Senior Advisor and CEOSE Executive Secretary, Office of Integrative Activities (OIA), National Science Foundation, 2415 Eisenhower Avenue, Alexandria, VA 22314. Contact Information: 703-292-8040/banderso@nsf.gov.

Minutes: Meeting minutes and other information may be obtained from the CEOSE Executive Secretary at the above address or the website at http://www.nsf.gov/od/oia/activities/ceose/index.jsp.

Purpose of Meeting: To study data, programs, policies, and other information pertinent to the National Science Foundation and to provide advice and recommendations concerning broadening participation in science and engineering.

Agenda

Day 1

1:00 p.m.-1:15 p.m. Welcome and Introductions/Meeting Overview—CEOSE Chair

1:15 p.m.-1:45 p.m. NSF CEOSE Executive Liaison Report—OIA/Office Head

1:45 p.m.-2:00 p.m. Presentation: Report on the Future of EPSCoR—Co-Chair CEOSE Subcommittee

2:00 p.m.-3:00 p.m. NSB Briefing—NSB Leadership

3:00 p.m.-3:15 p.m. Break.

3:15 p.m.-4:30 p.m. Discussion: Focus and Recommendation(s) of the 2021-2022 CEOSE Report—CEOSE Vice Chair

4:30 p.m.-5:30 p.m. Discussion: CEOSE Liaison Reports—CEOSE AC Liaisons

Day 2

10:00 a.m.-11:00 a.m. Opening—CEOSE Chair, Presentation: Directorate for Technology, Innovation and Partnership (TIP)—TIP Leadership

11:00 a.m.-1:00 p.m. Working Lunch Session: 2021-2022 CESOE Report — CEOSE Work Groups

1:00 p.m.-1:40 p.m. CEOSE Discussion: Topics/Ideas to Share with Leadership—CEOSE Members

1:40 p.m.-2:00 p.m. Break.

2:00 p.m.-2:30 p.m. Discussion with NSF Leadership—NSF Director and NSF Chief Operating Officer

2:30 p.m.-3:15 p.m. Discussion: Federal Liaison Reports—CEOSE Federal Liaisons

3:15 p.m.-3:30 p.m. Announcements and Final Remarks

Dated: September 19, 2022.
Crystal Robinson,
Committee Management Officer.

[FR Doc. 2022-20589 Filed 9-22-22; 8:45 am]

BILLING CODE 7555-01-P